DEPARTMENT OF STATE

[Public Notice 5165]

Notice of Meeting of the Advisory Committee on International Law

A meeting of the Advisory Committee on International Law will take place on Thursday, September 29, 2005, from 10 a.m. to approximately 4 p.m., as necessary, in Room 1207 of the United States Department of State, 2201 C Street, NW., Washington, DC. The meeting will be chaired by the Legal Adviser of the Department of State, John B. Bellinger, III, and will be open to the public up to the capacity of the meeting room. The meeting will discuss various issues relating to current international legal topics, including Presidential determinations to comply with International Court of Justice decisions: Avena and domestic litigation; the recent session of the International Law Commission; recent developments on prisoners and detainees, and recent developments on treaties.

Entry to the building is controlled and will be facilitated by advance arrangements. Members of the public desiring access to the session should, by Tuesday, September 27, 2005, notify the Office of the Assistant Legal Adviser for United Nations Affairs (telephone: 202-647-2767) of their name, date of birth; citizenship (country); ID number., i.e., U.S. government ID (agency), U.S. military ID (branch), passport (country), or drivers license (state); professional affiliation, address and telephone number in order to arrange admittance. This includes admittance for government employees as well as others. All attendees must use the “C” Street entrance. One of the following valid IDs will be required for admittance: any U.S. driver's license with photo, a passport, or a U.S. Government agency ID. Because an escort is required at all times, attendees should expect to remain in the meeting for the entire morning or afternoon session.

Dated: September 9, 2005.
Judith L. Osborn,
Attorney-Adviser, Office of United Nations Affairs, Office of the Legal Adviser, Executive Director, Advisory Committee on International Law, Department of State.

[FR Doc. 05-18354 Filed 9-14-05; 8:45 am]

BILLING CODE 4710-08-P